DEPARTMENT OF ENERGY

Federal Energy Regulatory Commission

[Docket No. CP05-5-000]

Questar Pipeline Company; Notice of Availability of the Environmental Assessment for the Proposed Southern System Expansion Project

November 30, 2004.

The staff of the Federal Energy Regulatory Commission (FERC or Commission) has prepared an environmental assessment (EA) on the natural gas pipeline facilities proposed by Questar Pipeline Company (Questar) in the above-referenced docket.

The EA was prepared to satisfy the requirements of the National Environmental Policy Act. The staff concludes that approval of the proposed project, with appropriate mitigating measures, would not constitute a major federal action significantly affecting the quality of the human environment.

The EA assesses the potential environmental effects of the construction and operation of the proposed natural gas pipeline and appurtenant facilities including:

1. Installation of about 18.7 miles of new 24-inch-diameter pipeline in Carbon County, Utah, including pig launchers and receivers, block valves, control headers, cathodic protection systems, and associated crossover piping and valves to interconnect the new pipeline into existing pipelines, as well as;

• Construction of the Fausett Junction Facilities consisting of a 20-inch-diameter pig launcher/receiver, one 24-inch-diameter pig receiver, and two control headers;

• Construction of the Prettyman Tap Facilities consisting of a tap and valve on Questar's proposed pipeline and associated piping to tie into Questar Gas Company's FL 86 Pipeline;

• Construction of one 24-inch-diameter pig launcher, one 24-inch-diameter pig receiver, and one 24-inch-diameter block valve for the new pipeline; and a new filter separator to be constructed on the end of the existing slug catcher located within the existing Price Yard facility;

• Construction of the new 24-inch-diameter Hayes Wash Block Valve for the new pipeline;

• Construction of the Soldier Creek Facilities, consisting of one 24-inch-diameter pig launcher and one 24-inch-diameter block valve for the new pipeline, and one 20-inch-diameter pig launcher and one new 20-inch-diameter pig receiver for Questar's existing ML 40; and

• Cathodic protection facilities for the new pipeline.

2. Installation of the new 6,200 horsepower (hp) Thistle Creek Compressor Station in Utah County, Utah;

3. Installation of the new 9,400 hp Blind Canyon Compressor Station, in Duchesne County, Utah, including a slug catcher, pipeline liquid storage tanks, pig launcher and receiver, and tie-in valves;

4. Modifications to Questar's existing Oak Spring Compressor Station in Carbon County, Utah, consisting of restaging centrifugal compressor units and the addition of a gas cooler, filter/separator, valves, and yard and station piping;

5. Modifications to Questar's existing Greasewood Compressor Station in Rio Blanco County, Colorado, consisting of the installation of two parallel, approximately 750-foot-long segments of new buried piping;

6. Retesting of about 23.5 miles of Questar's existing ML 40 Pipeline between the proposed Blind Canyon Compressor Station and Questar's existing Whitmore Park block valve to increase the MAOP of this segment by approximately 60 psig to approximately 860 psig

The purpose of the proposed facilities would be to expand Questar's southern pipeline system in order to transport an additional 102,000 decatherms (dths) per day of natural gas on a firm basis from the Uinta/Piceance Basin to gas-consuming markets, including power producers, located primarily along the Wasatch Front.

The EA has been placed in the public files of the FERC. A limited number of copies of the EA are available for distribution and public inspection at: Federal Energy Regulatory Commission, Public Reference Room, 888 First Street, NE., Room 2A, Washington, DC 20426, (202) 502-8371.

Copies of the EA have been mailed to cooperating agencies, state agencies, a public interest group and a local newspaper.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Branch 3, PJ11.3.

• Reference Docket No. CP05-5-000; and

• Mail your comments so that they will be received in Washington, DC on or before December 27, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E4-3483 Filed 12-6-04; 8:45 am]

BILLING CODE 6717-01-P